DEPARTMENT OF DEFENSE

Office of the Secretary

[Transmittal No. 23-65]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil

SUPPLEMENTARY INFORMATION: This 36(b)(1) arms sales notification is published to fulfill the requirements of section 155 of Public Law 104-164 dated July 21, 1996. The following is a copy of a letter to the Speaker of the House of Representatives with attached Transmittal 23-65, Policy Justification, and Sensitivity of Technology.

Dated: November 1, 2024.
Stephanie J. Bost,
Alternate OSD Federal Register Liaison Officer, Department of Defense.

BILLING CODE 6001-FR-P

BILLING CODE 6001-FR-C

Transmittal No. 23-65

Notice of Proposed Issuance of Letter of Offer Pursuant to Section 36(b)(1) of the Arms Export Control Act, as amended

(i) Prospective Purchaser: Government of the Republic of Korea

(ii) Total Estimated Value:

Major Defense Equipment * | $3.08 billion
Other | $1.98 billion
TOTAL | $5.06 billion

(iii) Description and Quantity or Quantities of Articles or Services under Consideration for Purchase:

Major Defense Equipment (MDE):

Up to twenty-five (25) F-35 Joint Strike Fighter Conventional Take Off and Landing (CTOL) Aircraft

Up to twenty-six (26) Pratt & Whitney F135-PW-100 Engines (25 installed, 1 spare)

Non-MDE:

Also included are AN/PYQ-10 Simple Key Loaders (SKL); KIV-78 Cryptographic Appliques; Electronic Warfare (EW) Reprogramming Lab support; Cartridge Actuated Devices/Propellant Actuated Devices (CAD/PAD); classified software delivery and support; Contractor Logistics Support (CLS); aircraft and munitions support and support equipment; spare parts, consumables, accessories, and repair/return support; aircraft engine component improvement program (CIP) support; secure communications, precision navigation, and cryptographic devices; major modifications, maintenance, and maintenance support, to include Block 4 upgrade; transportation, ferry, and refueling support; personnel training and training equipment, including simulators; classified and unclassified publications and technical documents; studies and surveys; U.S. Government and engineering, technical, and logistics support services; and other related elements of logistics and program support.

(iv) Military Department: Air Force (KS-D-SAF)

(v) Prior Related Cases, if any: KS-D-SAC, KS-D-QGC

(vi) Sales Commission, Fee, etc., Paid, Offered, or Agreed to be Paid: None

(vii) Sensitivity of Technology Contained in the Defense Article or Defense Services Proposed to be Sold: See Attached Annex

(viii) Date Report Delivered to Congress: September 13, 2023

* As defined in Section 47(6) of the Arms Export Control Act.

POLICY JUSTIFICATION

Republic of Korea (ROK)—F-35 Aircraft

The Government of the Republic of Korea has requested to buy up to twenty-five (25) F-35 Joint Strike Fighter Conventional Take Off and Landing (CTOL) aircraft; and up to twenty-six (26) Pratt & Whitney F135-PW-100 engines (25 installed, 1 spare). Also included are AN/PYQ-10 Simple Key Loaders (SKL); KIV-78 Cryptographic Appliques; Electronic Warfare (EW) Reprogramming Lab support; Cartridge Actuated Devices/Propellant Actuated Devices (CAD/PAD); classified software delivery and support; Contractor Logistics Support (CLS); aircraft and munitions support and support equipment; spare parts, consumables, accessories, and repair/return support; aircraft engine component improvement program (CIP) support; secure communications, precision navigation, and cryptographic devices; major modifications, maintenance, and maintenance support, to include Block 4 upgrade; transportation, ferry, and refueling support; personnel training and training equipment, including simulators; classified and unclassified publications and technical documents; studies and surveys; U.S. Government and engineering, technical, and logistics support services; and other related elements of logistics and program support. The estimated total cost is $5.06 billion.

This proposed sale will support the foreign policy goals and national security objectives of the United States by improving the security of a major ally that is a force for political stability and economic progress in the Indo-Pacific region.

The proposed sale will improve the Republic of Korea's capability to meet current and future threats by providing credible defense capability to deter aggression in the region and ensure interoperability with U.S. forces. The proposed sale will augment Korea's operational aircraft inventory and enhance its air-to-air and air-to-ground self-defense capability. Korea already has F-35s in its inventory and will have no difficulty absorbing these articles and services into its armed forces.

The proposed sale of this equipment and support will not alter the basic military balance in the region.

The principal contractors will be Lockheed Martin Aeronautics Company, Fort Worth, TX, and Pratt & Whitney Military Engines, East Hartford, CT. The purchaser typically requests offsets. Any offset agreement will be defined in negotiations between the purchaser and the contractor.

Implementation of this proposed sale will not require the assignment of any additional U.S. Government or contractor representatives to the Republic of Korea.

There will be no adverse impact on U.S. defense readiness as a result of this proposed sale.

Transmittal No. 23-65

Notice of Proposed Issuance of Letter of Offer Pursuant to Section 36(b)(1) of the Arms Export Control Act

Annex

Item No. vii

(vii) Sensitivity of Technology:

1. The F-35A aircraft is a single seat, single engine, all-weather, stealth, fifth-generation, multirole aircraft. It contains sensitive technology including the low observable airframe/outer mold line, the Pratt and Whitney F135 engine, AN/APG-81 radar, an integrated core processor central computer, a mission systems/electronic warfare suite, a multiple sensor suite, technical data/documentation and associated software. Sensitive elements of the F-35A are also included in operational flight and maintenance trainers. Sensitive and classified elements of the F-35A aircraft include hardware, accessories, components, and associated software for the following major subsystems:

a. The Pratt and Whitney F135 engine is a single 40,000-pound thrust class engine designed for the F-35 and assures highly reliable, affordable performance. The engine is designed to be utilized in all F-35 variants, providing unmatched commonality and supportability throughout the worldwide base of F-35 users.

b. The AN/APG-81 Active Electronically Scanned Array (AESA) is a high processing power/high transmission power electronic array capable of detecting air and ground targets from a greater distance than mechanically scanned array radars. It also contains a synthetic aperture radar (SAR), which creates high-resolution ground maps and provides weather data to the pilot and provides air and ground tracks to the mission system, which uses it as a component to fuse sensor data.

c. The Electro-Optical Targeting System (EOTS) provides long-range detection and tracking as well as an infrared search and track (IRST) and forward-looking infrared (FLIR) capability for precision tracking, weapons delivery and bomb damage assessment (BDA). The EOTS replaces multiple separate internal or podded systems typically found on legacy aircraft.

d. The Electro-Optical Distributed Aperture System (EODAS) provides the pilot with full spherical coverage for air-to-air and air-to-ground threat awareness, day/night vision enhancements, a fire control capability and precision tracking of wingmen/friendly aircraft. The EODAS provides data directly to the pilot's helmet as well as the mission system.

e. The F-35 Electronic Warfare (EW) system is a reprogrammable, integrated system that provides radar warning and electronic support measures (ESM) along with a fully integrated countermeasures (CM) system. The EW system is the primary subsystem used to enhance situational awareness, targeting support and self-defense through the search, intercept, location and identification of in-band emitters and to automatically counter IR and RF threats.

f. The F-35 Communications, Navigation, and Identification (CNI) system provides the pilot with unmatched connectivity to flight members, coalition forces and the battlefield. It is an integrated subsystem designed to provide a broad spectrum of secure, anti-jam voice and data communications, precision radio navigation and landing capability, self-identification, beyond visual range target identification and connectivity to off-board sources of information. It also includes an inertial navigation and global positioning system (GPS) for precise location information. The functionality is tightly integrated within the mission system to enhance efficiency.

g. The F-35 CNI system includes two data links: Multi-Function Advanced Data Link (MADL) and Link 16. MADL is designed specifically for the F-35 and allows for Low Probability of Intercept (LPI) communications between F-35s. Link 16 is a command, control, communications, and intelligence (C3I) system incorporating jam-resistant, digital communication links for exchange of near real-time tactical information, including both data and voice, among air, ground, and sea elements. It provides the warfighter key theater functions such as surveillance, identification, air control, weapons engagement coordination, and direction for all services and allied forces. Link-16 equipment allows the F-35 to communicate with battlespace participants using widely-distributed J-series message protocols.

h. The F-35 Autonomic Logistics Global Sustainment (ALGS) provides a fully integrated logistics management solution. ALGS integrates a number of functional areas, including supply chain management, repair, support equipment, engine support and training. The ALGS infrastructure employs a state-of-the-art information system that provides real-time, decision-worthy information for sustainment decisions by flight line personnel. Prognostic health monitoring technology is integrated with the air system and is crucial to predictive maintenance of vital components.

i. The F-35 Operational Data Integrated Network (ODIN) provides an intelligent information infrastructure that binds all the key concepts of ALGS into an effective support system. ALIS establishes the appropriate interfaces among the F-35 Air Vehicle, the warfighter, the training system, government information technology (IT) systems, and supporting commercial enterprise systems. Additionally, ALIS provides a comprehensive tool for data collection and analysis, decision support and action tracking.

j. The F-35 Training System includes several training devices to provide integrated training for pilots and maintainers. The pilot training devices include a Full Mission Simulator (FMS) and Deployable Mission Rehearsal Trainer (DMRT). The maintenance training devices include an Aircraft Systems Maintenance Trainer (ASMT), Ejection System Maintenance Trainer (ESMT), Outer Mold Line (OML) Lab, Flexible Linear Shaped Charge (FLSC) Trainer, F135 Engine Module Trainer and Weapons Loading Trainer (WLT). The F-35 Training System can be integrated, where both pilots and maintainers learn in the same Integrated Training Center (ITC). Alternatively, the pilots and maintainers can train in separate facilities (Pilot Training Center and Maintenance Training Center).

k. Other subsystems, features, and capabilities include the F-35's low observable air frame, Integrated Core Processor (ICP) Central Computer, Helmet Mounted Display System (HMDS), Pilot Life Support System (PLSS), Off-Board Mission Support (OMS) System, and publications/maintenance manuals. The HMDS provides a fully sunlight readable, binocular display presentation of aircraft information projected onto the pilot's helmet visor. The use of a night vision camera integrated into the helmet eliminates the need for separate Night Vision Goggles. The PLSS provides a measure of Pilot Chemical, Biological, and Radiological Protection through use of an OnBoard Oxygen Generating System (OBOGS); and an escape system that provides additional protection to the pilot. OBOGS takes the Power and Thermal Management System (PTMS) air and enriches it by removing gases (mainly nitrogen) by adsorption, thereby increasing the concentration of oxygen in the product gas and supplying breathable air to the pilot. The OMS provides a mission planning, mission briefing, and a maintenance/intelligence/tactical debriefing platform for the F-35.

2. The AN/APQ-10 Simple Key Loader is a handheld device used for securely receiving, storing, and transferring data between compatible cryptographic and communications equipment.

3. The KIV-78 is a cryptographic applique for IFF. It can be loaded with Mode 5 classified elements.

4. The Electronic Warfare Reprogramming Lab is used by USG engineers in the reprogramming and creation of shareable Mission Data Files for foreign F-35 customers.

5. The highest level of classification of defense articles, components, and services included in this potential sale is SECRET.

6. If a technologically advanced adversary were to obtain knowledge of the specific hardware and software elements, the information could be used to develop countermeasures that might reduce weapon system effectiveness or be used in the development of a system with similar or advanced capabilities.

7. A determination has been made that the Republic of Korea can provide substantially the same degree of protection for the sensitive technology being released as the U.S. Government. This sale is necessary in furtherance of the U.S. foreign policy and national security objectives outlined in the Policy Justification.

8. All defense articles and services listed in this transmittal have been authorized for release and export to the Republic of Korea.

[FR Doc. 2024-25767 Filed 11-5-24; 8:45 am]

BILLING CODE 6001-FR-P